DEPARTMENT OF THE TREASURY

Internal Revenue Service

26 CFR Part 1

[TD 9239]

RIN 1545-BE00

Time for Filing Employment Tax Returns and Modifications to the Deposit Rules; Correction

AGENCY: Internal Revenue Service (IRS), Treasury.

ACTION: Correction to final and temporary regulations.

SUMMARY: This document contains a correction to final and temporary regulations that were published in the Federal Register on Tuesday, January 3, 2006 (71 FR 11). These regulations relate to the annual filing of Federal employment tax returns and requirements for employment tax deposits for employers in the Employers' Annual Federal Tax Program (Form 944).

FOR FURTHER INFORMATION CONTACT: Raymond Bailey, (202) 622-4910 and Audra M. Dineen, (202) 622-4940 (not toll-free numbers).

SUPPLEMENTARY INFORMATION:

Background

The final and temporary regulations (TD 9239) that is the subject of this correction is under section 6302 of the Internal Revenue Code.

Need for Correction

As published, the final and temporary regulations (TD 9239) contains an error that may prove to be misleading and is in need of clarification.

Correction of Publication

Accordingly, the publication of the final and temporary regulations (TD 9239), that was the subject of FR Doc. 05-24565, is corrected as follows:

1. On page 12, column 3, in the preamble under paragraph heading “Background and Explanation of Provisions”, second paragraph, fourth line from the bottom of the paragraph, the language, “is subject the One-Day rule of” is corrected to read “is subject to the One-Day rule of”.

Guy R. Traynor,
Chief, Publications and Regulations Branch, Legal Processing Division, Associate Chief Counsel (Procedure and Administration).

[FR Doc. 06-2534 Filed 3-16-06; 8:45 am]

BILLING CODE 4830-01-P